DEPARTMENT OF JUSTICE

Drug Enforcement Administration

21 CFR Part 1308

[DEA-187F]

RIN 1117-AA51

Schedules of Controlled Substances: Exempt Anabolic Steroids Products; Republication

Editorial Note: Due to numerous printing errors, rule document FR Doc. 00-17915 originally published at 65 FR 43690-43694, Friday, July 14, 2000 is being reprinted in its entirety.

AGENCY: Drug Enforcement Administration, Department of Justice.

ACTION: Final rule.

SUMMARY: The Drug Enforcement Administration (DEA) published an interim rule with request for comments (65 FR 3124, Jan. 20, 2000, as corrected at 65 FR 5024, Feb. 2, 2000) which identified six anabolic steroid products as being exempt from certain regulatory provisions of the Controlled Substances Act (21 U.S.C. 801 et seq.) (CSA). No comments were received. Therefore, the interim rule is being adopted without change.

EFFECTIVE DATE: July 14, 2000.

FOR FURTHER INFORMATION CONTACT: Frank L. Sapienza, Chief, Drug and Chemical Evaluation Section, Drug Enforcement Administration, Washington, D.C. 20537; Telephone (202) 307-7183.

SUPPLEMENTARY INFORMATION:

What Does This Rule Accomplish and by What Authority Is It Being Issued?

This rule finalizes an interim rule (65 FR 3124, Jan. 20, 2000, as corrected at 65 FR 5024, Feb. 2, 2000) which identified six products as being exempt from certain portions of the Controlled Substances Act (21 U.S.C. 801 et seq.) (CSA). Section 1903 of the Anabolic Steroids Control Act of 1990 (title XIX of Pub. L. 101-647) (ASCA) provides that the Attorney General may exempt products which contain anabolic steroids from all or any part of the CSA if the products have no significant potential for abuse. The procedure for implementing this section of the ASCA is described in 21 CFR 1308.33. Exempt status removes each product from application of the registration, labeling, records, reports, prescription, physical security, and import and export restrictions associated with Schedule III substances.

Why Did DEA Add Six Products to the List of Exempt Anabolic Steroids Products?

Manufacturers of six anabolic steroid products submitted exempt status applications to the Deputy Assistant Administrator for the DEA Office of Diversion Control in accordance with 21 CFR 1308.33. Each application delineated a set of facts which the applicant believed justified the exempt status of its product. The applicants provided information which they believed showed that because of the specific product preparation, concentration, mixture, or delivery system these products had no significant potential for abuse. Upon acceptance of the applications, the Deputy Assistant Administrator requested from the Assistant Secretary for Health, Department of Health and Human Services (HHS) a recommendation as to whether these products should be considered for exemption from certain portions of the CSA. The Deputy Assistant Administrator received the determination and recommendation of the Assistant Secretary for Health and Surgeon General that there was sufficient evidence to establish that each product does not possess a significant potential for abuse.

Which Anabolic Steroid Products Are Affected and When Does the Rule Become Effective?

In the interim rule, the Deputy Assistant Administrator identified the following six products as being exempt from application of sections 302 and through 309 and 1002 through 1004 of the CSA (21 U.S.C. 822-829 and 952-954) and 21 CFR 1301.13, 1301.22, and 1301.71 through 1301.76:

Exempt Anabolic Steroid Products
Trade name | Company | NDC No. | Form | Ingredients | Quantity
Component E-H in process granulation | Ivy Laboratories, Inc., Overland Park, KS |  | Pail or drum | Testosterone propionate Estradiol benzoate | 10 parts 1 part
Component E-H in process pellets | Ivy Laboratories, Inc., Overland Parks, KS |  | Pail | Testosterone propionate Estradiol benzoate | 25 mg/ 2.5 mg/pellet
Component TE-S in process granulation | Ivy Laboratories, Inc., Overland Park, KS |  | Pail or drum | Trenbolone acetate Estradiol USP | 5 parts 1 part
Component TE-S in process pellets | Ivy Laboratories, Inc., Overland Parks, KS |  | Pail | Trenbolone acetate Estradiol USP | 120 mg/ 24 mg/pellet
Testoderm with Adhesive 4 mg/d | Alza Corp., Palo Alto,CA | Export only | Patch | Testosterone | 10 mg
Testosterone Ophthalmic Solutions | Allergan, Irvine, CA |  | Ophthalmic Solutions | Testosterone | ≤0.6% w/v

The interim rule became immediately effective on publication in the Federal Register, January 20, 2000, in order to provide a health benefit to the public by more expeditiously increasing the access to these anabolic steroid products and to reduce regulatory restrictions that DEA (in consultation with HHS) has determined to be an unnecessary burden on the businesses manufacturing these products.

What Comments to the Interim Rule Were Received?

Comments to the interim rule were requested, none were received.

What Exempt Anabolic Steroid Products are Included in the List Referred to in 21 CFR 1308.34?

With the publication of this final rule, the complete list of products referred to in 21 CFR 1308.34 is as follows:

Exempt Anabolic Steroid Products
Trade Name | Company | NDC No. | Form | Ingredients | Quantity
Andro-Estro 90-4 | Rugby Laboratories, Rockville Centre, NY | 0536-1605 | Vial | Testosterone enanthate Estradiol valerate | 90 mg/ml 4 mg/ml
Androgyn L.A. | Forest Pharmaceuticals, St. Louis, MO | 0456-1005 | Vial | Testosterone enanthate Estradiol valerate | 90 mg/ml 4 mg/ml
Component E-H in process granulation | Ivy Laboratories, Inc., Overland Park, KS |  | Pail or drum | Testosterone propionate Estradiol benzoate | 10 parts 1 part
Componenet E-H in process pellets | Ivy Laboratories, Inc., Overland Park, KS |  | Pail | Testosterone propionate Estradiol benzoate | 25 mg/ 2.5 mg/pellet
Component TE-S in process granulation | Ivy Laboratories, Inc., Overland Park, KS |  | Pail or drum | Trenbolone acetate Estradiol USP | 5 parts 1 part
Component TE-S in process pellets | Ivy Laboratories, Inc., Overland Park, KS |  | Pail | Trenbolone acetate Estradiol USP | 120 mg/ 24 mg/pellet
depANDROGYN | Forest Pharmaceuticals, St. Louis, MO | 0456-1020 | Vial | Testosterone cypionate Estradiol cypionate | 50 mg/ml 2 mg/ml
DEPTO-T.E. | Quality Research Pharm., Carmel, IN | 52765-257 | Vial | Testosterone cypionate Estradiol cypionate | 50 mg/ml 2 mg/ml
Depo-Testadiol | The Upjohn Company, Kalamazoo, MI | 0009-0253 | Vial | Testosterone cypionate Estradiol cypionate | 50 mg/ml 2 mg/ml
depTESTROGEN | Martica Pharmaceuticals, Phoenix, AZ | 51698-257 | Vial | Testosterone cypionate Estradiol cypionate | 50 mg/ml 2 mg/ml
Duomone | Wintec Pharmaceutical, Pacific, MO | 52047-360 | Vial | Testosterone enanthate Estradiol valerate | 90 mg/ml 4 mg/ml
DUO-SPAN II | Primedics Laboratories, Gardena, CA | 0684-0102 | Vial | Testosterone cypionate Estradiol cypionate | 50 mg/ml 2 mg/ml
DURATESTRIN | W. E. Hauck, Alpharetta, GA | 43797-016 | Vial | Testosterone cypionate Estradiol cypionate | 50 mg/ml 2 mg/ml
Estratest | Solvay Pharmaceuticals, Marietta, GA | 0032-1026 | TB | Esterifield estrogens Methyltestosterone | 1.25 mg 2.5 mg
Estratest HS | Solvay Pharmaceuticals, Marietta, GA | 0032-1023 | TB | Esterifield estrogens Methyltestosterone | 0.625 mg 1.25 mg
Menogen | Sage Pharmaceuticals, Shreveport, LA | 59243-570 | TB | Esterifield estrogens Methyltestosterone | 1.25 mg 2.5 mg
Menogen HS | Sage Pharmaceutical, Shreveport, LA | 59243-560 | TB | Esterifield estrogens Methyltestosterone | .0625 mg 1.25 mg
PAN ESTRA TEST | Pan American Labs., Covington, LA | 0525-0175 | Vial | Testosterone cypionate Estradiol cypionate | 50 mg/ml 2 mg/ml
Premarin with Methyltestosterone | Ayerst Labs. Inc,. New York, NY | 0046-0878 | TB | Conjugated estrogens Methyltestosterone | 0.625 mg 5.0 mg
Premarin with Methyltestosterone | Ayerst Labs. Inc., New York, NY | 0046-0879 | TB | Conjugated estrogens Methyltestosterone | 1.25 mg 10.0 mg
Synovex H in-process bulk pellets | Syntex Animal health, Palo Alto, CA |  | Drum | Testosterone propionate Estradiol benzoate | 25 mg 2.5 mg/pellet
Synovex H in-process granulation | Syntex Animal Health, Palo Alto, CA |  | Drum | Testosterone propionate Estradiol benzoate | 10 part 1 part
Synovex Plus in-process bulk pellets | Fort Dodge Animal Health, Fort Dodge, IA |  | Drum | Trenbolone acetate Estradiol benzoate | 25 mg/ 3.50 mg/pellet
Synovex Plus in-process granulation | Fort Dodge Animal Health, Fort Dodge, IA |  | Drum | Trenbolone acetate Estradiol benzoate | 25 parts 3.5 parts
Testagen | Clint Pharmaceuticals, Nashville, TN | 55553-257 | Vial | Testosterone cypionate Estradiol cypionate | 50 mg/ml 2 mg/ml
TEST-ESTRO Cypionates | Rugby Laboratories Rockvill Centre, NY | 0536-9470 | Vial | Testosterone cypionate Estradiol cypionate | 50 mg/ml 2 mg/ml
Testoderm 4 mg/d | Alza Copr., Palo Alto, CA | 17314-4608 | Patch | Testosterone | 10 mg
Testoderm 6 mg/d | Alza Corp., Palo Alto, CA | 17314-4609 | Patch | Testosterone | 15 mg
Testoderm with Adhesive 4 mg/d | Alza Corp., Palo Alto, CA | Export only | Patch | Testosterone | 10 mg
Testoderm with Adhesive 6 mg/d | Alza Corp., Palo Alto, CA | 17314-2836 | Patch | Testosterone | 15 mg
Testoderm in-process film | Alza Corp, Palo Alto, CA |  | Sheet | Testosterone | 0.25 mg/cm2
Testoderm with Adhesive in-process film | Alza Corp., Palo Alto, CA |  | Sheet | Testosterone | 0.25 mg/cm2
Testosterone Cypionate/Estradiol Cypionate Injection | Best Generics, No. Miami Beach, FL | 54274-530 | Vial | Testosterone cypionate Estradiol cypionate | 50 mg/ml 2 mg/ml
Testosterone Cypionate/Estradiol Cypionate Injection | Goldline Labs, Ft. Lauderdale, Fl | 0182-3069 | Vial | Testosterone cypionate Estradiol cypionate | 50 mg/ml 2mg/ml
Testosterone Cyp 50 Estradiol Cyp 2 | I.D.E.-Interstate, Amityville, NY | 0814-7737 | Vial | Testosterone cypionate Estradiol cypionate | 50 mg/ml 2 mg/ml
Testosterone Cypionate/Estradiol Cypionate Injection | Schein Pharmaceuticals, Port Washington, NY | 0364-6611 | Vial | Testosterone cypionate Estradiol cypionate | 50 mg/ml 2 mg/ml
Testosterone Cypionate/Estradiol Cypionate Injection | Steris Labs. Inc., Phoenix, AZ | 0402-0257 | Vial | Testosterone cypionate Estradiol cypionate | 50 mg/ml 2 mg/ml
Testosterone Enanthate/Estradiol Valerate Injection | Goldline Labs, Ft. Lauderdale, Fl | 0182-3073 | Vial | Testosterone enanthate Estradiol valerate | 90 mg/ml 4 mg/ml
Testosterone Enanthate/Estradiol Valerate Injection | Schein Pharmaceuticals, Port Washington, NY | 0364-6618 | Vial | Testosterone enanthate Estradiol valerate | 90 mg/ml 4 mg/ml
Testosterone Enanthate/Estradiol Valerate Injection | Steris Labs. Inc., Phoenix, AZ | 0402-0360 | Vial | Testosterone enanthate Estradiol valerate | 90 mg/ml 4 mg/ml
Testosterone Ophthalmic Solutions | Allergan, Irvine, CA |  | Ophthalmic solutions | Testosterone | ≤0.6% w/v
Tilapia Sex Reversal Feed (Investigational) | Rangen, Inc., Buhl, ID |  | Plastic bags | Methyltestosterone | 60 mg/kg fish feed
Tilapia Sex Reversal Feed (Investigational) | Ziegler Brothers, Inc., Gardners, PA |  | Plastic bags | Methyltestosterone | 60 mg/kg fish feed

Additional copies of this list may be obtained by submitting a written request to the Drug and Chemical Evaluation Section, Office of Diversion Control, Drug Enforcement Administration, Washington, D.C. 20537.

Plain Language Instructions

The Drug Enforcement Administration makes every effort to write clearly. If you have suggestions as to how to improve the clarity of this regulation, call or write Patricia M. Good, Chief, Liaison and Policy Section, Office of Diversion Control, Drug Enforcement Administration, Washington, D.C. 20537, Telephone (202) 307-7297.

Certifications

Regulatory Flexibility Act

The Deputy Assistant Administrator, for the DEA Office of Diversion Control, in accordance with the Regulatory Flexibility Act [5 U.S.C. 605(b)], has reviewed this rule and by approving it, certifies that it will not have significant economic impact on a substantial number of small business entities. The granting of exempt status relieves persons who handle the exempt products in the course of legitimate business from the registration, labeling, records, reports, prescription, physical security, and import and export restrictions imposed by the CSA.

Executive Order 12866

The Deputy Assistant Administrator further certifies that this rulemaking has been drafted in accordance with the principles in Executive Order 12866, section 1(b). The Office of Management and Budget (OMB) reviewed the interim rule as a significant action; the DEA received no comments regarding the interim rule. This final rule falls into a category of regulatory actions which OMB has determined are exempt from regulatory review. Therefore, this action has not been reviewed by the OMB.

Executive Order 13132

This action has been analyzed in accordance with the principles and criteria in Executive Order 13132 and it has been determined that this rule does not have sufficient federalism implications to warrant the preparation of a Federalism Assessment.

Unfunded Mandates Reform Act of 1995

This rule will not result in the expenditure by State, local and tribal governments, in the aggregate, or by the private sector, of $100,000,000 or more in any one year, and it will not significantly or uniquely affect small governments. Therefore, no actions were deemed necessary under provisions of the Unfunded Mandates Reform Act of 1995.

Small Business Regulatory Enforcement Fairness Act of 1996

This rule is not a major rule as defined by Section 804 of the Small Business Regulatory Enforcement Fairness Act of 1996. This rule will not result in an annual effect on the economy of $100,000,000 or more; a major increase in costs or prices; or significant adverse effects on competition, employment, investment, productivity, innovation, or on the ability of United States-based companies to compete with foreign-based companies in domestic and export markets.

PART 1308—[AMENDED]

Pursuant to the authority delegated to the Administrator of the DEA pursuant to 21 U.S.C. 871(a) and 28 CFR 0.100 and redelegated to the Deputy Assistant Administrator of the Drug Enforcement Administration Office of Diversion Control, pursuant to 28 CFR 0.104, appendix to subpart R, section 7(g), the Deputy Assistant Administrator of the Office of Diversion Control hereby adopts as a final rule, without change, the interim rule which was published at 65 FR 3124 on Jan. 20, 2000 and corrected at 65 FR 5024, on Feb. 2, 2000, amending the list described in 21 CFR 1308.34.

Dated: July 3, 2000.
John H. King,
Deputy Assistant Administrator, Office of Diversion Control.

[FR Doc. 00-17915 Filed 7-13-00; 8:45 am]

Editorial Note: Due to numerous printing errors, rule document FR Doc. 00-17915 originally published at 65 FR 43690-43694, Friday, July 14, 2000 is being reprinted in its entirety.

[FR Doc. 00-17915 Filed 8-1-00; 8:45 am]

BILLING CODE 1505-01-D